DEPARTMENT OF COMMERCE

International Trade Administration

[A-533-877]

Stainless Steel Flanges From India: Preliminary Results and Rescission, in Part, of Antidumping Duty Administrative Review; 2023-2024

AGENCY: Enforcement and Compliance, International Trade Administration, Department of Commerce.

SUMMARY: The U.S. Department of Commerce (Commerce) preliminarily finds that producers and/or exporters of stainless steel flanges (flanges) from India made sales of subject merchandise in the United States at prices below normal value (NV) during the period of review (POR) October 1, 2023, through September 30, 2024. In addition, we are rescinding this review for two companies. We invite interested parties to comment on these preliminary results.

DATES: Applicable February 18, 2026.

FOR FURTHER INFORMATION CONTACT: Eric Chen and Benito Ballesteros, AD/CVD Operations, Office IX, Enforcement and Compliance, International Trade Administration, Department of Commerce, 1401 Constitution Avenue NW, Washington, DC 20230; telephone: (202) 482-2860 or (202) 482-7425, respectively.

SUPPLEMENTARY INFORMATION:

Background

On October 9, 2018, Commerce published in the Federal Register an antidumping duty order on flanges from India.¹ On November 14, 2024, and December 18, 2024, based on timely requests for review, Commerce initiated an administrative review of the Order covering 13 companies, in accordance with section 751(a) of the Tariff Act of 1930, as amended (the Act).² On December 9, 2024, Commerce tolled certain deadlines in this administrative proceeding by 90 days.³ On September 29, 2025, Commerce extended the deadline for the preliminary results of this administrative review by 16 days.⁴ Due to the lapse in appropriations and Federal Government shutdown, on November 14, 2025, Commerce tolled all deadlines in administrative proceeding by 47 days,⁵ and, due to a backlog of documents that were electronically filed via Enforcement and Compliance's Antidumping and Countervailing Duty Centralized Electronic Service System (ACCESS) during the Federal Government shutdown, on November 24, 2025, Commerce tolled all deadlines in administrative proceedings by an additional 21 days.⁶ On December 2, 2025, Commerce extended the deadline for the preliminary results by 21 days.⁷ Additionally, on December 23, 2025, Commerce extended the deadline for the preliminary results by 14 days.⁸ Accordingly, the deadline for the preliminary results is now January 28, 2026.

¹ See Stainless Steel Flanges from India: Antidumping Duty Order, 83 FR 50639 (October 9, 2018) (Order).

² See Initiation of Antidumping and Countervailing Duty Administrative Reviews, 89 FR 89955 (November 14, 2024) (Initiation Notice); see also Initiation of Antidumping and Countervailing Duty Administrative Reviews, 89 FR 102856 (December 18, 2024).

³ See Memorandum, “Tolling of Deadlines for Antidumping and Countervailing Duty Proceedings,” dated December 9, 2024.

⁴ See Memorandum, “Extension of Deadline for Preliminary Results of 2023-2024 Antidumping Duty Administrative Review,” dated September 29, 2025.

⁵ See Memorandum, “Deadlines Affected by the Shutdown of the Federal Government,” dated November 14, 2025.

⁶ See Memorandum, “Tolling of all Case Deadlines,” dated November 24, 2025.

⁷ See Memorandum, “Extension of Deadline for Preliminary Results of 2023-2024 Antidumping Duty Administrative Review,” dated December 2, 2025.

⁸ See Memorandum, “Extension of Deadline for Preliminary Results of 2023-2024 Antidumping Duty Administrative Review,” dated December 23, 2025.

For details regarding the events that occurred subsequent to the initiation of this review, see the Preliminary Decision Memorandum.⁹ A list of topics discussed in the Preliminary Decision Memorandum is included as Appendix I to this notice. The Preliminary Decision Memorandum is a public document and is on file electronically via ACCESS. ACCESS is available to registered users at https://access.trade.gov. In addition, a complete version of the Preliminary Decision Memorandum can be accessed directly at https://access.trade.gov/public/FRNoticesListLayout.aspx.

⁹ See Memorandum, “Decision Memorandum for the Preliminary Results of the Antidumping Duty Administrative Review of Stainless Steel Flanges from India; 2023-2024,” dated concurrently with, and hereby adopted by, this notice (Preliminary Decision Memorandum).

Scope of the Order

The merchandise covered by the Order is stainless steel flanges from India. For a full description of the scope, see the Preliminary Decision Memorandum.

Preliminary Successor-in-Interest Determination

Viraj Profiles Private Limited (Viraj) reported that it changed its name from “Viraj Profiles Limited” (Viraj Profiles) to “Viraj Profiles Private Limited.” ¹⁰ Based on our analysis of the information on the record regarding changes with respect to Viraj Profiles' corporate structure, manufacturing facilities, customers, and suppliers, we preliminarily determine that Viraj is the successor-in-interest to Viraj Profiles, and, as a result, should be treated in the same manner as Viraj Profiles. For further discussion, see the Preliminary Decision Memorandum at “Preliminary Successor-In-Interest Determination.”

¹⁰ See BFN/Viraj's Letter, “Stainless Steel Flanges From India,” dated May 12, 2025, at 1-2.

Partial Rescission of Administrative Review

Pursuant to 19 CFR 351.213(d)(1), Commerce will rescind an administrative review, in whole or in part, if a party who requested the review withdraws the request within 90 days of the date of publication of notice of initiation of the requested review in the Federal Register. In February 2025, Echjay Forgings Private Limited (Echjay) and Goodluck India Limited (Goodluck) timely withdrew their requests for an administrative review.¹¹ Because no other party requested a review of these companies, Commerce is rescinding this review with respect to Echjay and Goodluck, in accordance with 19 CFR 351.213(d)(1).

¹¹ See Echjay's Letter, “Withdrawal of Request for Antidumping Duty Administrative Review for the period of October 01, 2023 to September 30, 2024,” dated February 11, 2025; see also Goodluck's Letter, “Withdrawal of Request for Anti-Dumping Duty Administrative Review for the period of October 01, 2023 to September 30, 2024,” dated February 11, 2025.

Methodology

Commerce is conducting this review in accordance with sections 751(a)(1) and (2) of the Act. Commerce has calculated export prices in accordance with section 772(a) of the Act. Constructed export prices have been calculated in accordance with section 772(b) of the Act. We calculated NV in accordance with section 773 of the Act. Furthermore, pursuant to section 776(a) and (b) of the Act, Commerce has preliminarily relied upon facts otherwise available, with adverse inferences (AFA) to determine the margin assigned to BFN Forgings Private Limited; Flanschen werk Bebitz GmbH; Viraj Alloys, Ltd.; Viraj Forgings, Ltd.; Viraj Impoexpo, Ltd.; and Viraj (collectively, BFN/Viraj).¹² For a full description of the methodology underlying these preliminary results, see the Preliminary Decision Memorandum.

¹² Commerce previously determined that it was appropriate to collapse these companies and treat them as a single entity. See, e.g., Stainless Steel Flanges from India: Final Affirmative Determination of Sales at Less Than Fair Value and Final Affirmative Critical Circumstance Determination, 83 FR 40745 (August 16, 2018).

Review-Specific Rate for Companies Not Selected for Individual Review

The Act and Commerce's regulations do not address the rate to be applied to companies not selected for individual examination when Commerce limits its examination in an administrative review pursuant to section 777A(c)(2) of the Act. Generally, Commerce looks to section 735(c)(5) of the Act, which provides instructions for calculating the all-others rate in a less-than-fair value (LTFV) investigation for guidance when calculating the rate for companies which were not selected for individual examination in an administrative review. Under section 735(c)(5)(A) of the Act, the all-others rate is normally an amount equal to the weighted average of the estimated weighted-average dumping margins established for exporters and producers individually investigated, excluding any zero or de minimis margins, and any margins determined entirely on the basis of facts available. In this administrative review, Commerce preliminarily assigned a margin based entirely on AFA to BFN/Viraj. Therefore, the only rate that is not zero, de minimis or based entirely on AFA is the rate calculated for Chandan Steel Limited (Chandan). Therefore, we are preliminarily assigning Chandan's rate of 0.60 percent to the companies not selected for individual examination in this review, in accordance with section 735(c)(5)(B) of the Act. The companies not selected for individual examination are listed in Appendix II.

Preliminary Results of Review

We preliminarily determine the following estimated weighted-average dumping margins exist for the period October 1, 2023, through September 30, 2024:

¹³ The exporters and/or producers not selected for individual review are listed in Appendix II.

Exporter/producer | Weighted-average dumping margin (percent)
Chandan Steel Limited | 0.60
BFN Forgings Private Limited; Flanschen werk Bebitz GmbH; Viraj Alloys, Ltd.; Viraj Forgings, Ltd.; Viraj Impoexpo, Ltd.; and Viraj Profiles Private Limited | 50.72
Companies Not Selected for Individual Review ¹³ | 0.60

Disclosure

Commerce intends to disclose its calculations and analysis performed to interested parties for these preliminary results within five days of any public announcement or, if there is no public announcement, within five days of the date of publication of this notice in accordance with 19 CFR 351.224(b).

Public Comment

Case briefs or other written comments may be submitted to the Assistant Secretary for Enforcement and Compliance.¹⁴ Pursuant to 19 CFR 351.309(c)(1)(ii), the deadline for interested parties to submit case briefs to Commerce is no later than 21 days after the date of the publication of this notice. Rebuttal briefs, limited to issues raised in the case briefs, may be filed not later than five days after the date for filing case briefs.¹⁵ Interested parties who submit case briefs or rebuttal briefs in this proceeding must submit: (1) a table of contents listing each issue; and (2) a table of authorities.¹⁶ All briefs must be filed electronically via ACCESS.¹⁷ An electronically filed document must be received successfully in its entirety by ACCESS by 5:00 p.m. Eastern Time on the established deadline.

¹⁴ See 19 CFR 351.309(c)(1)(ii); see also 19 CFR 351.303 (for general filing requirements).

¹⁵ See 19 CFR 351.309(d); see also Administrative Protective Order, Service, and Other Procedures in Antidumping and Countervailing Duty Proceedings, 88 FR 67069, 67077 (September 29, 2023) (APO and Service Final Rule).

¹⁶ See 19 CFR 351.309(c)(2) and (d)(2).

¹⁷ See 19 CFR 351.303.

As provided under 19 CFR 351.309(c)(2)(iii) and (d)(2)(iii), we request that interested parties provide at the beginning of their briefs a public, executive summary for each issue raised in their briefs.¹⁸ Further, we request that interested parties limit their executive summary of each issue to no more than 450 words, not including citations. We intend to use the executive summaries as the basis of the comment summaries included in the issues and decision memorandum that will accompany the final determination in this investigation. We request that interested parties include footnotes for relevant citations in the executive summary of each issue. Note that Commerce has amended certain of its requirements pertaining to the service of documents in 19 CFR 351.303(f).¹⁹

¹⁸ We use the term “issue” here to describe an argument that Commerce would normally address in a comment of the Issues and Decision Memorandum.

¹⁹ See APO and Service Final Rule.

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a time and date to be determined. Parties should confirm by telephone the date, time, and location of the hearing two days before the scheduled date.

Final Results of Review

Unless otherwise extended, Commerce intends to issue the final results of this administrative review, including the results of its analysis of the issues raised in any written briefs, not later than 120 days after the date of publication of this notice, pursuant to section 751(a)(3)(A) of the Act and 19 CFR 351.213(h)(1).

Assessment Rates

Upon completion of this administrative review, Commerce shall determine, and U.S. Customs and Border Protection (CBP) shall assess, antidumping duties on all appropriate entries covered by this review. The final results of this review shall be the basis for the assessment of antidumping duties on entries of merchandise covered by this review and for future deposits of estimated duties, where applicable.²⁰

²⁰ See section 751(a)(2)(C) of the Act.

Pursuant to 19 CFR 351.212(b)(1), where Chandan reported the entered value for its U.S. sales, we calculated importer-specific ad valorem antidumping duty assessment rates based on the ratio of the total amount of antidumping duties calculated for the examined sales to the total entered value of those same sales. Where either Chandan's weighted-average dumping margin is zero or de minimis within the meaning of 19 CFR 351.106(c), or an importer-specific rate is zero or de minimis, we will instruct CBP to liquidate the appropriate entries without regard to antidumping duties.

Commerce's “automatic assessment” practice will apply to entries of subject merchandise during the POR produced by Chandan for which the company did not know that the merchandise it sold to the intermediary (i.e., a reseller, trading company, or exporter) was destined for the United States. In such instances, we will instruct CBP to liquidate unreviewed entries at the all-others rate established in the LTFV investigation (i.e., 7.00 percent),²¹ if there is no rate for the intermediate company(ies) involved in the transaction.²²

²¹ See Stainless Steel Flanges from India: Notice of Court Decision Not in Harmony with the Final Determination of Antidumping Investigation; Notice of Amended Final Determination, 86 FR 50325 (September 8, 2021) (Amended Final).

²² For a full discussion of this practice, see Antidumping and Countervailing Duty Proceedings: Assessment of Antidumping Duties, 68 FR 23954 (May 6, 2003).

For the companies listed in Appendix II which were not selected for individual review, we will instruct CBP to assess antidumping duties on all appropriate entries based on the review-specific rate, calculated as noted in the “Preliminary Results of Review” section, above. For BFN/Viraj, we will instruct CBP to assess antidumping duties on all appropriate entries based on the dumping margin listed in the “Preliminary Results of Review” section, above.

For the companies for which we are rescinding the review, we will instruct CBP to assess antidumping duties on all appropriate entries at rates equal to the cash deposit of estimated antidumping duties required at the time of entry, or withdrawal from warehouse, in accordance with 19 CFR 351.212(c)(1)(i). Commerce intends to issue these rescission instructions to CBP no earlier than 35 days after the date of publication of this notice in the Federal Register.

Commerce intends to issue assessment instructions to CBP regarding Chandan, BFN/Viraj, and the companies listed in Appendix II no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies under review will be equal to the weighted-average dumping margin established in the final results of this review, except if the rate is de minimis (i.e., less than 0.50 percent), in which case the cash deposit rate will be zero; (2) for previously reviewed or investigated companies not covered by this review, the cash deposit rate will continue to be the company-specific rate published for the most recently-completed segment of this proceeding in which they were examined; (3) if the exporter is not a firm covered in this review, a prior review, or the LTFV investigation, but the producer is, the cash deposit rate will be the rate established for the most recently-completed segment of this proceeding for the producer of the merchandise; and (4) the cash deposit rate for all other producers or exporters will continue to be 7.00 percent,²³ the all-others rate established in the amended final determination of the LTFV investigation. These cash deposit requirements, when imposed, shall remain in effect until further notice.

²³ See Amended Final, 86 FR at 50326.

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

We are issuing and publishing these results in accordance with sections 751(a)(1) and 777(i)(1) of the Act, and 19 CFR 351.213 and 351.221(b)(4).

Dated: January 28, 2026.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Preliminary Successor-In-Interest Determination

V. Use of Facts Available and Adverse Inferences

VI. Discussion of the Methodology

VII. Recommendation

Appendix II

List of Companies Not Selected for Individual Examination

1. Balkrishna Steel Forge Pvt. Ltd.

2. CD Industries (Prop. Kisaan Engineering Works Pvt. Ltd.)

3. Cetus Engineering Private Limited

4. Fivebros Forgings Private Limited

5. Hilton Metal Forging Limited

6. Jai Auto Pvt. Ltd.

7. Kisaan Die Tech Private Limited

8. Pradeep Metals Limited

9. R. N. Gupta & Company Limited

[FR Doc. 2026-03202 Filed 2-17-26; 8:45 am]

BILLING CODE 3510-DS-P